DEPARTMENT OF COMMERCE

Foreign-Trade Zones Board

[Docket 38-2010]

Foreign-Trade Zone 29—Louisville, KY; Application for Expansion and Expansion of Manufacturing Authority; Subzone 29F; Hitachi Automotive Products (USA), Inc. (Automotive Components)

An application has been submitted to the Foreign-Trade Zones Board (the Board) by the Louisville and Jefferson County Riverport Authority, grantee of FTZ 29, on behalf of Hitachi Automotive Products (USA), Inc. (HAP), operator of Subzone 29F, HAP plant, Harrodsburg, Kentucky, requesting authority to expand the subzone and to expand the scope of FTZ manufacturing authority to include new manufacturing capacity. The application was submitted pursuant to the provisions of the Foreign-Trade Zones Act, as amended (19 U.S.C. 81a-81u), and section 400.28(a)(2) of the Board's regulations (15 CFR part 400). It was formally filed on May 20, 2010.

Subzone 29F was approved by the Board in 1990 with authority granted for the manufacture of automotive components at HAP's manufacturing plant located at 955 Warwick Road (Site 1) (50 acres) in Harrodsburg, Kentucky (Board Order 497, 56 FR 674, 1-8-91). Activity at the facility (624 employees) includes machining, assembly, testing, warehousing, and distribution of various automotive components, including mass air sensors, throttle bodies and chambers, starter motors, motor/generator units, alternators, distributors, other static converters, inverter modules, rotors/stators, ignition coils, electronic sensors and modules, fuel injectors, emissions control equipment, valves, pumps, and electronic control units for engines and transmissions (capacity—up to 8.5 million units annually). Components and materials sourced from abroad (representing 80 percent of the finished automotive components' material value) include: adhesives, plastic fittings, plastic and rubber belts, fasteners, gaskets/seals/o-rings, metal fittings, labels, plastic wedging, springs, brackets, plates, filters, bearings, air pumps/compressors, valves, switches, electric motors, tubes/pipes/profiles, aluminum plugs, transformers, crankshafts, camshafts, gears, pulleys, couplings, clutches, parts of electric motors, pinions, magnets, ignition parts, diodes, transistors, resistors, semiconductors, liquid crystal devices, electrical instruments, navigation apparatuses, capacitors, printed/integrated circuits, fuses, rheostats, connectors, terminals, piezoelectric crystals, regulators, lamps, wires, cables, cylinders, plungers, insulators, brushes, brackets, shafts, and measuring instruments (duty rate range: Free—9.0%).

The applicant is now requesting authority to expand the subzone to include two new warehouse facilities: Site 2—(68,000 sq. ft.) 601 Robinson Road in Harrodsburg, Kentucky; and Site 3—(61,010 sq. ft.) 110 Morgan Soaper Road, Harrodsburg. The company will be expanding its manufacturing plant (Site 1) to increase production area that would add up to 720,000 additional units to the facility's capacity. The applicant also requests that the scope of FTZ manufacturing authority be expanded to include the additional production capacity for the manufacture of high pressure, direct-injection fuel pumps (new combined output would be 9.22 million units per year). The expanded operations will involve a continuation of HAP's utilization of both foreign-sourced and domestic materials and components.

Expanded FTZ procedures could continue to exempt HAP from customs duty payments on the foreign-origin components used in production for export (about 30% of shipments). On its domestic shipments, the company would be able to elect the duty rate that applies to finished automotive components (free—6.7%) for the foreign-origin inputs noted above. Subzone status would further allow HAP to realize logistical benefits through the use of weekly customs entry procedures. Customs duties also could possibly be deferred or reduced on foreign status production equipment. HAP would also be exempt from duty payments on foreign inputs that become scrap during the production process.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is July 26, 2010. Rebuttal comments in response to material submitted during the foregoing period may be submitted during the subsequent 15-day period to August 10, 2010.

A copy of the application will be available for public inspection at the Office of the Foreign-Trade Zones Board's Executive Secretary at the address listed above and in the “Reading Room” section of the Board's Web site, which is accessible via http://www.trade.gov/ftz. For further information, contact Pierre Duy at Pierre.Duy@trade.gov or (202) 482-1378.

Dated: May 20, 2010.
Andrew McGilvray,
Executive Secretary.

[FR Doc. 2010-12798 Filed 5-26-10; 8:45 am]

BILLING CODE 3510-DS-P